DEPARTMENT OF LABOR

Employment and Training Administration

[TA-W-81,760; TA-W-81,760A]

EPIC Technologies, LLC; Norwalk, Ohio; EPIC Technologies, LLC; Including On-Site Leased Workers From H.G. Arias & Associates; El Paso, Texas; Amended Certification Regarding Eligibility To Apply for Worker Adjustment Assistance

In accordance with Section 223 of the Trade Act of 1974, as amended (“Act”), 19 U.S.C. 2273, the Department of Labor issued a certification of eligibility to apply for Trade Adjustment Assistance applicable to workers and former workers of EPIC Technologies, LLC, Norwalk, Ohio. The determination was issued on July 12, 2012. The workers are engaged in activities related to the production of printed circuit boards.

During the investigation for EPIC Technologies, El Paso, Texas (TA-W-85,063), the Department obtained information that the El Paso, Texas facility works in conjunction with the Norwalk, Ohio facility. Specifically, the El Paso, Texas facility provides warehousing, shipping, and receiving services for the Norwalk, Ohio facility.

Based on these findings, the Department is amending this certification to include workers of EPIC Technologies, LLC, including on-site leased workers from H.G. Arias & Associates, El Paso, Texas (TA-W-81,760A).

The amended notice applicable to TA-W-81,760 is hereby issued as follows:

“All workers of EPIC Technologies, LLC, including on-site leased workers of H.G. Arias & Associate, El Paso, Texas (TA-W-81,760A), who became totally or partially separated from employment on or after December 23, 2011 through July 12, 2014, and all workers in the group threatened with total or partial separation from employment on the date of certification through two years from the date of certification, are eligible to apply for adjustment assistance under Chapter 2 of Title II of the Trade Act of 1974, as amended.”

Signed in Washington, DC this 23rd day of April, 2014.
Del Min Amy Chen,
Certifying Officer, Office of Trade Adjustment Assistance.

[FR Doc. 2014-10253 Filed 5-5-14; 8:45 am]

BILLING CODE 4510-FN-P